NATIONAL SCIENCE FOUNDATION

Proposal Review Panel for Physics; Notice of Meeting

In accordance with the Federal Advisory Committee Act (Pub. L. 92-463, as amended), the National Science Foundation announces the following meeting:

Name: Proposal Review Panel for the Division of Physics (1208) (V162137) Site Visit.

Date and Time: June 21-22, 2016; 8:30 a.m.-5:00 p.m.

June 23, 2016; 8:30 a.m.-12:00 p.m.

Place: LIGO Observatory in Hanford, WA.

Type of Meeting: Part—Open.

Contact Person: Mark Coles, Facilities Manager, Division of Physics, National Science Foundation, 4201 Wilson Blvd., Room 1015, Arlington, VA 22230; Telephone: (703) 292-4432.

Purpose of Meeting: Site visit to provide an evaluation of the progress of the projects at the host site for the Division of Physics at the National Science Foundation.

Agenda

June 21, 2016

8:30 a.m.-9:00 a.m. Executive Session (CLOSED)

9:00 a.m.-Noon Plenary presentations on LIGO operation

1:00 p.m.-3:00 p.m. Facility Tour

3:00 p.m.-4:30 p.m. Breakout sessions

4:30 p.m. Executive session (CLOSED)

5:00 p.m. Brief joint session with panel and LIGO

June 22, 2016

8:30 a.m.-9:00 a.m. Executive session (CLOSED)

9:00 a.m.-Noon Breakout sessions

Noon-1:00 p.m. Lunch

1:00 p.m.-4:00 p.m. Breakout sessions

4:00 p.m. Executive session (CLOSED)

5:00 p.m. Homework assignment meeting (joint LIGO + panel)

June 23, 2016

8:30 a.m. Homework reports to panel (CLOSED)

9:00 a.m. Panel report writing in executive session (CLOSED)

Noon Panel summary report (CLOSED)

Reason for Closing: Topics to be discussed and evaluated during the site review will include information of a proprietary or confidential nature, including technical information and information on personnel. These matters are exempt under 5 U.S.C. 552b(c), (4) and (6) of the Government in the Sunshine Act.

Dated: May 11, 2016.
Crystal Robinson,
Committee Management Officer.

[FR Doc. 2016-11567 Filed 5-16-16; 8:45 am]

BILLING CODE 7555-01-P